DEPARTMENT OF COMMERCE

Bureau of the Census

[Docket Number 070723403-7404-01]

Suspension of the Geographically Updated Population Certification Program (GUPCP) for Places Incorporating or Annexing Between Censuses

AGENCY: Bureau of the Census, Department of Commerce.

ACTION: Notice of Suspension of Program.

SUMMARY: This document serves notice to state and local governments and to other federal agencies that beginning on January 1, 2008, the Bureau of the Census will suspend the Geographically Updated Population Certification Program for five years—the two years preceding the decennial census, the decennial census year, and the two years following it—to accommodate the taking of the 2010 Census. During this time, the Bureau of the Census will not provide the operations necessary to determine the updated April 1, 2000, census population and housing unit counts for entities that annex territory or that incorporate or organize as counties, boroughs, cities, towns, villages, townships, or other general purpose governments. However, all requests for population and housing count updates received in writing before January 1, 2008 will be considered.

DATES: As of January 1, 2008, the Geographically Updated Population Certification Program will be suspended.

FOR FURTHER INFORMATION CONTACT: Mr. Darryl Cohen, Population Division, Bureau of the Census, Washington, DC 20233, telephone (301) 763-2419, e-mail at Darryl.T.Cohen@census.gov.

SUPPLEMENTARY INFORMATION: The Census Bureau first began to make updated decennial census count determinations to reflect geographic boundary changes in 1972 in response to the requests of local governments to establish eligibility for participation in the General Revenue Sharing Program, authorized under Pub. L. 92-512. At that time, the Census Bureau established a fee-paid program enabling entities with annexations to obtain updated decennial census population counts that reflected the population living in the boundary change areas. The Census Bureau also received funding from the U.S. Department of the Treasury to make those determinations for larger annexations that met prescribed criteria and for the new incorporations. The General Revenue Sharing Program ended on September 30, 1986, but the certification program continued into 1988 with support from the Census Bureau. The program was suspended to accommodate the taking of the 1990 decennial census and resumed in 1992. The Bureau of the Census supported the program through fiscal year 1995 for cities with large annexations and through fiscal year 1996 for newly incorporated places. The program was continued on a fee-paid basis only until June 1, 1998, at which time it was suspended for the 2000 decennial census (see the Federal Register, 63 FR 27706, May 20, 1998). In 2002, the program was resumed and has since been referred to as the Geographically Updated Population Certification Program or GUPCP (see the Federal Register, 67 FR 72095, December 4, 2002).

As with previous censuses, the Census Bureau is suspending the program for the two years immediately preceding and following the 2010 census to permit allocation of necessary resources to the decennial census. However, all requests for population and housing count updates received before January 1, 2008 will be considered. The Census Bureau will announce in the Federal Register the date that the program is resumed. The Census Bureau plans to resume the program in the year 2012, after 2010 census data become available, for those entities that desire the service, provided that any and all costs associated with this work are borne by the local governmental entity.

Authority to continue this program on a fee-for-service basis is contained in Title 13, United States Code, Section 8.

Dated: August 15, 2007.
Charles Louis Kincannon,
Director, Bureau of the Census.

[FR Doc. E7-16365 Filed 8-20-07; 8:45 am]

BILLING CODE 3510-07-P